DEPARTMENT OF COMMERCE

National Oceanic and Atmospheric Administration

RIN 0648-XU43

North Pacific Fishery Management Council; Public Meeting

AGENCY: National Marine Fisheries Service (NMFS), National Oceanic and Atmospheric Administration (NOAA), Commerce.

ACTION: Notice of a public meeting.

SUMMARY: The North Pacific Fishery Management Council's (Council) Scallop Plan Team will meet March 3 and 4th, 2010 in Juneau, AK.

DATES: The meeting will be held on March 3-4, 2010, from 9 a.m. to 5 p.m.

ADDRESSES: The meeting will be held at the Ted Stevens Marine Research Institute, Room 256, 17109 Point Lena Road, Juneau, AK.

Council address: North Pacific Fishery Management Council, 605 W. 4th Ave., Suite 306, Anchorage, AK 99501-2252.

FOR FURTHER INFORMATION CONTACT: Diana Stram, Council staff; telephone: (907) 271-2809.

SUPPLEMENTARY INFORMATION: Agenda: Review status of Statewide scallop stocks; compile annual Stock Assessment Fishery Evaluation Report; review preliminary analysis of Annual Catch Limits; review and recommend changes as necessary to scallop Essential Fish Habitat designations; update on modifications to the Scallop Observer Program data collection and database; discuss federal scallop bycatch data and recommend changes as necessary to meet ACL requirements.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: February 16, 2010.
William D. Chappell,
Acting Director, Office of Sustainable Fisheries, National Marine Fisheries Service.

[FR Doc. 2010-3193 Filed 2-17-10; 8:45 am]

BILLING CODE 3510-22-S